FEDERAL COMMUNICATIONS COMMISSION

[CC Docket No. 92-237; DA 00-2247]

Next Meeting of the North American Numbering Council

AGENCY: Federal Communications Commission.

ACTION: Notice.

SUMMARY: On October 3, 2000, the Commission released a public notice announcing the October 17 and 18, 2000, meeting and agenda of the North American Numbering Council (NANC). The intended effect of this action is to make the public aware of the NANC's next meeting and its agenda. This notice of the October 17-18, 2000 NANC meeting is being published in the Federal Register less than 15 days prior to the meeting due to a delay in finalizing the October NANC agenda.

FOR FURTHER INFORMATION CONTACT: Cheryl Callahan or Aaron Goldberger at (202) 418-2320. The address is: Network Services Division, Common Carrier Bureau, Federal Communications Commission, The Portals, 445 12th Street, SW, Suite 6A320, Washington, DC 20554. The fax number is: (202) 418-2345. The TTY number is: (202) 418-0484.

SUPPLEMENTARY INFORMATION: Released: October 3, 2000.

The North American Numbering Council (NANC) has scheduled a meeting to be held Tuesday, October 17, 2000, from 8:30 a.m. until 5 p.m., and on Wednesday, October 18, from 8:30 a.m., until 12 noon. The meeting will be held at the Federal Communications Commission, Portals II, 445 12th Street, SW, Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Cheryl Callahan or Aaron Goldberger at the address under FOR FURTHER INFORMATION CONTACT, stated above.

Proposed Agenda

Tuesday, September 19, 2000

1. Approval of June 20-21 and July 18-19, 2000, meeting minutes.

2. North American Numbering Plan Administration (NANPA) Report. Presentation of Enterprise Services and associated prices. Discussion of September 27 notice regarding INC issue 220.

3. North American Numbering Plan Administration (NANPA) Oversight Working Group Report. Status of NANPA technical requirements document.

4. Report of Numbering Resource Optimization (NRO). Status of NRUF Requirements Document and ITN Recommendations.

5. JFAX presentation on UMS Issues.

6. Industry Numbering Committee Report. Status of UNP.

7. Report of Toll Free Access Codes IMG.

8. Local Number Portability Administration (LNPA) Working Group Report. Wireless Number Portability Subcommittee report, Third Wireline Wireless Integration Report, and Review of Report on LNP & Pooling.

9. Report of Cost Recovery Working Group.

10. Report from NBANC.

11. Ad Hoc Voluntary UNP Study Group Report. Presentation of Business Rule Model.

12. Steering Group Meeting. Update Table of NANC Projects.

Wednesday, September 20, 2000

13. Steering Group Report.

14. Reseller CIC IMG Status Report.

15. NANC Discussion Group on Charging for Telephone Numbers.

16. UMS IMG Report.

17. Oversight of LLCs NPAC.

18. Public participation (5 minutes each, if any).

19. Other Business.

20. Action Items.

Federal Communications Commission.
L. Charles Keller,
Chief, Network Services Division, Common Carrier Bureau.

[FR Doc. 00-25708 Filed 10-4-00; 8:45 am]

BILLING CODE 6712-01-P